DEPARTMENT OF AGRICULTURE

Rural Telephone Bank

Sunshine Act Meeting

AGENCY: Rural Telephone Bank, USDA.

ACTION: Privatization discussion meeting.

TIME AND DATE: 10 a.m., Friday, December 20, 2002.

PLACE: Room 4062, South Building, U.S. Department of Agriculture, 1400 Independence Avenue, SW., Washington, DC.

STATUS: Open.

MATTERS TO BE DISCUSSED: The business advisor will report on the status of current privatization projects. A teleconference will be arranged for out-of-town Board members' participation.

FOR FURTHER INFORMATION CONTACT: Roberta D. Purcell, Assistant Governor, Rural Telephone Bank, (202) 720-9554.

Dated: December 11, 2002.
Hilda Gay Legg,
Governor, Rural Telephone Bank.

[FR Doc. 02-31632 Filed 12-11-02; 3:53 pm]

BILLING CODE 3410-15-M